DEPARTMENT OF HOMELAND SECURITY

Departmental Advisory Committee on Commercial Operations of the Bureau of Customs and Border Protection (COAC)

AGENCY: Department of Homeland Security.

ACTION: Notice of meeting.

SUMMARY: This notice announces the date, time, and location for the third meeting of the ninth term of the Departmental Advisory Committee on Commercial Operations of the Bureau of Customs and Border Protection (COAC), and the expected agenda for its consideration.

DATES: The next meeting of the COAC will be held on Friday, June 18, 2004, 9:30 a.m. to 1 p.m.

ADDRESSES: The meeting of the Departmental Advisory Committee on Commercial Operations of the Bureau of Customs and Border Protection (COAC) will be held in the Ronald Reagan Building, Horizon Ballroom, located at 1300 Pennsylvania, NW., Washington, DC 20229.

FOR FURTHER INFORMATION CONTACT: Vetta Jeffries, 202-282-8468.

SUPPLEMENTARY INFORMATION: This meeting is open to the public; however, participation in COAC deliberations is limited to COAC members, Homeland Security and Treasury Department officials, and persons invited to attend the meeting for special presentations. Since seating is limited, all persons attending this meeting should provide notice to Vetta Jeffries, 202-282-8468, no later than 2 p.m. e.s.t. on Wednesday, June 16, 2004.

Information on Services for Individuals With Disabilities

For information on facilities or services for individuals with disabilities or to request special assistance at the meeting, contact Vetta Jeffries at 202-282-8468 as soon as possible.

Draft Agenda

The COAC is expected to pursue the following agenda, which may be modified prior to the meeting:

1. Elimination of Quotas & the Impact on CBP and Trade

2. Update on International Trade Data Systems (ITDS)

3. Update on Security Subcommittee

—Advance Cargo Information

—CTPAT

4. Maritime Transportation Security Act (MTSA) Implementation Subcommittee

5. Agriculture Subcommittee Activities and FDA Bioterrorism

6. US-VISIT Implementation/ Land Borders

C. Stewart Verdery, Jr.,
Assistant Secretary for Border and Transportation Security Policy and Planning.

[FR Doc. 04-12784 Filed 6-3-04; 8:45 am]

BILLING CODE 4820-02-U